DEPARTMENT OF LABOR

Employment and Training Administration

[TA-W-65,312]

Brown Shoe Company, Inc., Fredericktown, MO; Notice of Termination of Investigation

In accordance with Section 221 of the Trade Act of 1974, as amended, an investigation was initiated on February 19, 2009 in response to a petition filed by a United Food and Commercial Workers Local 655 union representative on behalf of workers of Brown Shoe Company, Inc., Fredericktown, Missouri.

The petitioner has requested that the petition be withdrawn. Consequently, the investigation has been terminated.

Signed in Washington, DC, this 26th day of March 2009.
Richard Church,
Certifying Officer, Division of Trade Adjustment Assistance.

[FR Doc. E9-10904 Filed 5-8-09; 8:45 am]

BILLING CODE 4510-FN-P